DEPARTMENT OF COMMERCE

Foreign-Trade Zones Board

(Docket 22-2009)

Foreign-Trade Zone 203 Moses Lake, Washington, Application for Subzone, REC Silicon (Polysilicon and Silane Gas), Moses Lake, Washington

An application has been submitted to the Foreign-Trade Zones Board (the Board) by the Port of Moses Lake Public Corporation, grantee of FTZ 203, requesting special-purpose subzone status for the polysilicon and silane gas manufacturing facility of REC Silicon, located in Moses Lake, Washington. The application was submitted pursuant to the provisions of the Foreign-Trade Zones Act, as amended (19 U.S.C. 81a-81u), and the regulations of the Board (15 CFR part 400). It was formally filed on May 21, 2009.

The REC Silicon facility (425 employees, 219 acres, 10,500 metric ton capacity) is located at 3322 Road “N” NE, Moses Lake, Washington. The facility is used for the manufacturing and warehousing of solar grade polysilicon and silane gas using domestic and imported silicon metal (duty rate ranges from 5.3-5.5%). Pursuant to Section 400.33 of the Board's regulations, any silicon metal subject to antidumping or countervailing duties would be required to be admitted to the subzone in privileged foreign status (19 CFR 146.41).

FTZ procedures could exempt REC Silicon from customs duty payments on the silicon metal used in export production. The company anticipates that over 95% of polysilicon and 90% of silane gas shipped from the plant will be exported. On its domestic sales, REC Silicon would be able to choose the duty rates during customs entry procedures that apply to polysilicon and silane gas (duty rate ranges from duty-free to 3.7%) for the foreign inputs noted above. FTZ designation would further allow REC Silicon to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to investigate the application and report to the Board.

Public comment is invited from interested parties. Submissions (original and 3 copies) shall be addressed to the Board's Executive Secretary at the address below. The closing period for their receipt is July 27, 2009. Rebuttal comments in response to material submitted during the foregoing period may be submitted during the subsequent 15-day period to August 11, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Elizabeth Whiteman at Elizabeth_Whiteman@ita.doc.gov or (202) 482-0473.

Dated: May 21, 2009.
Andrew McGilvray,
Executive Secretary.

[FR Doc. E9-12456 Filed 5-27-09; 8:45 am]

BILLING CODE 3510-DS-S